DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Now Is the Time (NITT)—Healthy Transitions (HT) Evaluation—New

SAMHSA is conducting a national evaluation of the Now is the Time (NITT) initiative, which includes separate programs—NITT Project AWARE (Advancing Wellness and Resilience in Education)—State Educational Agency (SEA), Healthy Transitions (HT), and two Minority Fellowship Programs (Youth and Addiction Counselors). These programs are united by their focus on capacity building, system change, and workforce development.

NITT-HT, which is the focus of this data collection, represents a response to the fourth component of President Obama's NITT Initiative: Increasing access to mental health services. The purpose of the NITT-HT program is to improve access to treatment and support services for youth/young adults 16-25 years that either have, or are at risk of developing a mental illness or substance use disorder, and are at high risk of suicide. NITT-HT grants were made to 17 state or local jurisdictions, each of which include 2-3 learning laboratories (n = 43), which are the local communities of practice responsible for implementing the NITT-HT approach. The NITT-HT program aims to increase awareness about early signs and symptoms of mental health conditions in the community; identify action strategies to use when a mental health concern is detected; provide training to provider and community groups to improve services and supports for youth/young adults; enhance peer and family supports; and develop effective services and interventions for youth and young adults with a serious mental health condition and their families. The NITT-HT evaluation is designed to understand whether and how NITT-HT grantees reach these program goals by examining system- and grantee-level processes and system- and client-level outcomes. Data collection efforts that will support the evaluation are described below.

The Community Support for Transition Inventory (CSTI) will assess systems change for communities implementing comprehensive, community-based approaches to improve outcomes for emerging adults with serious mental health conditions. The CSTI is organized around seven themes: Community partnership, collaborative action, transition planning quality assurance and support, workforce, fiscal policies and sustainability, access to needed support and services, and accountability. The CSTI is a web-based survey to be completed by 1,075 community leaders (15-25 community leaders per 43 learning laboratories) once during Year 2 and once during Year 4 of the grant period. Community leaders include members of the local advisory or steering committee, staff of the NITT-HT program, staff of agencies providing portions of the services, and young adult and family members' advocates.

The State Support for Transition Inventory (SSTI) will assess state support for systems change and is organized around six themes (partnership, collaborative action, workforce, fiscal policies & sustainability, access to needed supports & services, and accountability). The SSTI is a web-based survey to be completed by 425 state leadership members (20-25 state leaders per 17 grantees) once during Year 2 and once during Year 4 of the grant period. State leadership members include administrators or staff from state agencies responsible for aspects of services to youth/young adults (e.g., mental health, child welfare, education), youth/young adult and adult allies who are active in promoting, planning, or overseeing services at the state level, as well as other members of state-level advisory groups or governing bodies.

The Collaborative Member Survey is designed to assess specific team processes that contribute to collaboration outcomes at the systems level and will be administered to a subset of CSTI respondents who participate in a NITT-HT grantee's Advisory Team. The Collaborative Member Survey emphasizes aspects of Advisory Teams' climate (participatory decision-making, structure, management of conflict, reflexivity). A maximum of 1,075 respondents (15-25 advisory team members per 43 learning laboratories) are expected to complete the web-based survey once during Year 3 and once during Year 5 of the grant period.

The Collaborative Self-Assessment assesses collaborative functioning and accomplishments, and specific tasks completed by NITT-HT grantee stakeholders and the leadership team including progress in each of the primary “functions” for the NITT-HT grantees (i.e., specific, discrete achievements or steps toward strategic and fiscal planning, expansion of services, early identification outreach, and reduction of barriers to access). The web-based Collaborative Self-Assessment Survey will be completed by one advisory team member per learning laboratory (n = 43) once in Year 3 and once in Year 5 of the grant period.

The Project Director Web Survey will collect information on planning, coordination, leadership processes, fiscal planning, and sustainability. The brief Project Director Web Survey will be completed by all grantee project directors (n = 17) once during each of Years 2, 3, and 4 of the grant period. The web survey includes prompts designed to assist the project director in gathering and recalling information to be discussed during the subsequent Project Director Telephone Interview. Upon completion of the web survey, the project director will be asked to schedule a telephone interview, which will focus on gathering more in depth information to complement information gathered via the web survey. The Project Director Telephone Interview includes information on state/local implementation, fiscal planning, coordination and organizational challenges, workforce development, quality assurance procedures, sustainability planning, and leadership and political issues. The telephone interview will also be completed by all grantee project directors (n = 17) once during each of Years 2, 3, and 4 of the grant period. The web survey and telephone interview are slightly different at each time point to reflect varying annual changes in program implementation emphasis.

The Core Staff Web Survey will be administered to core NITT-HT staff to assess characteristics of person-centered practice and barriers to this practice. “Core staff” are defined as staff members serving as primary providers of planning, case management and coordination services to youth/young adults (“life coaches,” “transition facilitators,” or “transition specialists”). A maximum of 430 core staff (no more than 10 core staff per 43 learning laboratories) are expected to complete the Core Staff Survey once during the grant period.

In the Multi-Media Project, youth/young adults will be invited to voluntarily provide information about their experiences working with or being served by NITT-HT grantee communities using multi-media outlets. Youth/young adult involvement is a priority both for the NITT-HT national evaluation and for NITT-HT grantees. Consequently, it will be important to offer youth/young adults opportunities to participate in national evaluation activities in developmentally-appropriate and engaging ways. These outlets could include videos, photos, blogs, or poems (at the choice of the participating youth/young adult). Youth/young adults will be given informational probes (e.g., what keeps you involved in NITT-HT activities?) in grantee Years 2, 3, and 4; an estimated 510 youth/young adults (30 youth/young adults per 17 grantees) will participate in the Multi-Media Project.

The Supplemental Youth and Youth Adult Interview (SYAI) will assess key client-level outcomes of interest for the NITT-HT program, including: School/home/daily living functioning, emotional/behavioral health, vocation and education status, housing stability, criminal or juvenile justice involvement, psychotic symptoms, substance use/abuse, trauma symptoms, victimization experiences and propensity to commit violent acts. In addition to primary outcomes of interest, the SYAI also assesses intermediate outcomes thought to be critical in influencing change in behavioral health and functioning, including: Self-efficacy (mental health, school, career and social), and perceptions of social support, person-centered care, and service alliance. The SYAI includes standardized instruments as well as project-developed items and does not duplicate the client-level data collection required separately by SAMHSA (OMB No. 0930-0346). The SYAI will be conducted with 90 service recipient youth/young adults per NITT-HT grantee (n = 17), for a total of 1,530 youth/young adults, at program enrollment (Baseline) and 12- and 24-months after enrollment. These 90 cases will be evenly distributed across the grantee's 2-3 learning laboratories. The SYAI is designed for administration as an audio computer-assisted self-interviewing (ACASI) survey. This mode was selected to offer participating youth/young adults maximum privacy while completing the interview and to present minimal survey administration burden to NITT-HT grantee staff.

Grantee Visit In-Person Interviews and Focus Group Guides

All NITT-HT grantees (n = 17) will be visited once during the 5-year grant period. Activities associated with the grantee visit (i.e., a pre-planning inventory, interviews, focus groups, and document review) are described below.

Prior to the grantee visit, the Services & Supports Inventory will be administered one time by telephone to a representative from each of the NITT-HT grantees (n = 17) to identify specific providers and other stakeholders to participate in the grantee visit. Respondents will also provide information about specific services, especially evidence-based and evidence-informed practices being provided to youth/young adults through NITT-HT associated behavioral health or other professional agencies, and provide a preliminary assessment of the frequency and quality of implementation of the practice(s).

During the one-time grantee visit, several in-person interviews and two client-oriented focus groups will be conducted with NITT-HT program staff. The Core Staff In-Person Interview will be conducted with core staff members (i.e., “transitions specialists,” “transition facilitators,” or “life coaches”) to examine their experiences providing person-centered planning services to youth/young adults served within the NITT-HT grantee communities and ask about successes and challenges in creating and implementing youth/young adult service plans. A total of 215 core staff (five core staff per 43 learning laboratories) are expected to participate.

The Youth Coordinator In-Person Interview will be conducted with three staff members (one youth coordinator and up to two peer workers) to elicit staff experiences working with the NITT-HT grantee with a focus on the Youth Coordinator functions including participation in planning and coordination, outreach, mentoring, and other activities. A total of 129 staff members (three per 43 learning laboratories) are expected to participate.

The Provider In-Person Interview will be conducted with individuals who provide behavioral health services/treatment directly to youth/youth adults served within the NITT-HT community, other than the transition facilitators. These individuals will likely come from NITT-HT partner organizations. Interviews will focus on two areas: (1) Perceptions of organizational support by the collaborative, and (2) implementation of evidence-based practices (e.g., general attitudes, types of practices being used, implementation supports). A total of 85 key provider informants (five key providers per 17 grantees) are expected to participate.

The Stakeholder In-Person Interview will be conducted with other key stakeholders (e.g., board members for agencies, leaders or liaisons for advocacy groups, leaders or advocates with religious or charitable organizations), as identified by grantee leadership. The interview will elicit experiences contributing to systems development, including history of involvement, their specific contributions to the systems development effort, and strategies, barriers and facilitators to making these contributions. A total of 51 community stakeholders (3 stakeholders per 17 grantees) are expected to participate.

Two Young Adult Focus Groups will be conducted during the grantee visit—one for youth/young adults directly involved in NITT-HT system change efforts, and one for youth/young adults who are recipients of NITT-HT services. The focus groups are designed to elicit perceptions based on youth/young adult lived experience about resources to support successful youth/young adult transition at NITT-HT sites, whether practices are well aligned to address needs and cultivate resources, and ideas about how to build on these achievements in the future. An information form will be completed by each participant to gather general background information (e.g., demographics, extent of experience with the mental health system and grantee community). A total of 860 youth/young adult participants (20 participants per 43 learning laboratories) are expected to participate.

Two Family/Adult Ally Focus Groups will be conducted during the grantee visit—one focused at the client-level (for family members of youth/young adults service recipients), and one focused at the systems level (for family members involved in NITT-HT grantee planning and systems change efforts). The focus groups will gather information about family member perceived needs and resources to support youth/young adults at the NITT-HT sites. An information form will be completed by each participant to gather general background information (e.g., demographics, extent of experience with the mental health system and grantee community). A total of 860 family/adult allies (20 participants per 43 learning laboratories) are expected to participate.

Grantee Visit Document Review. Files or charts of a subset of youth/young adults participating in the SYAI will be reviewed during the grantee visit. This document review will be designed to ascertain types of standard documentation routinely completed for youth/young adult clients served as well as the consistency of completion of these documents. Information extracted from client charts will be programmatic only; there will be no identifying or personal information extracted from these client charts.

Annualized Burden Hours for the NITT—Healthy Transitions Evaluation
Instrument/activity | Number of respondents | Responses per respondent | Total number of responses | Hours per response | Total burden hours
Community Support for Transition Inventory | 1,075 | 1 | 1,075 | 0.4 | 430
State Support for Transition Inventory | 425 | 1 | 425 | 0.32 | 136
Collaborative Member Survey | 1,075 | 1 | 1,075 | 0.25 | 269
Collaborative Self-Assessment Survey | 43 | 1 | 43 | 0.83 | 36
Project Director Web Survey | 17 | 1 | 17 | 0.33 | 6
Project Director Telephone Interview | 17 | 1 | 17 | 1.5 | 26
Core Staff Web Survey | 430 | 1 | 430 | 0.33 | 142
Grantee Visits:
Services & Supports Inventory | 17 | 1 | 17 | 0.67 | 11
Core Staff In-Person Interview | 215 | 1 | 215 | 0.33 | 71
Youth Coordinator In-Person Interview | 129 | 1 | 129 | 1 | 129
Provider In-Person Interview | 85 | 1 | 85 | 0.75 | 64
Stakeholder In-Person Interview | 51 | 1 | 51 | 0.75 | 38
Young Adult Focus Group | 860 | 1 | 860 | 1.75 | 1,505
Family/Adult Ally Focus Group | 860 | 1 | 860 | 1.75 | 1,505
Document Review | 43 | 1 | 43 | 0.25 | 11
Supplemental Youth & Young Adult Interview | 1,530 | 1 | 1,530 | 0.67 | 1,025
Multi-Media Project Young Adult Probes | 510 | 1 | 510 | 0.33 | 168
Total | * 5,522 |  | 7,382 |  | 5,572
* This is an unduplicated count of total respondents.

Written comments and recommendations concerning the proposed information collection should be sent by February 25, 2016 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2016-01480 Filed 1-25-16; 8:45 am]

BILLING CODE 4162-20-P